DEPARTMENT OF COMMERCE

Foreign-Trade Zones Board

[Order No. 1433]

Grant of Authority for Subzone Status; Revlon Consumer Products Corporation (Cosmetic and Personal Care Products) Oxford, NC

Pursuant to its authority under the Foreign-Trade Zones Act, of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR part 400) provide for the establishment of special-purpose subzones when existing zone facilities cannot serve the specific use involved, and when the activity results in a significant public benefit and is in the public interest;

Whereas, the Triangle J Council of Governments, grantee of Foreign-Trade Zone 93, has made application to the Board for authority to establish a special-purpose subzone at the cosmetic and personal care products manufacturing and warehousing facility of Revlon Consumer Products Corporation, located in Oxford, North Carolina (FTZ Docket 35-2005, filed 7/26/05);

Whereas, notice inviting public comment was given in the Federal Register (70 FR 44558-44559, 8/3/05); and,

Whereas, the Board adopts the findings and recommendations of the examiner's report, and finds that the requirements of the FTZ Act and the Board's regulations are satisfied, and that approval of the application is in the public interest;

Now, Therefore, the Board hereby grants authority for subzone status for activity related to consumer and personal care products manufacturing at the facility of Revlon Consumer Products Corporation, located in Oxford, North Carolina (Subzone 93G), as described in the application and Federal Register notice, and subject to the FTZ Act and the Board's regulations, including section 400.28.

Signed at Washington, DC, this 13th day of January 2006.
Joseph A. Spetrini,
Deputy Assistant Secretary for AD/CVD Policy and Negotiations, Alternate Chairman, Foreign-Trade Zones Board.

[FR Doc. 06-674 Filed 1-24-06; 8:45 am]

BILLING CODE 3510-PS-M